DEPARTMENT OF HOMELAND SECURITY

Coast Guard

33 CFR Part 165

[Docket No. USCG-2010-0613]

Safety Zones: Annual Events Requiring Safety Zones in the Captain of the Port Buffalo Zone

AGENCY: Coast Guard, DHS.

ACTION: Notice of enforcement of regulation.

SUMMARY: The Coast Guard will enforce the safety zones for annual fireworks displays in the Captain of the Port Buffalo Zone from July 2, 2010 through July 31, 2010. This action is necessary to protect the safety of life and property on navigable waters during these events. During the enforcement period, no person or vessel may enter the safety zones without the permission of the Captain of the Port Buffalo.

DATES: This notice provides information about enforcement of safety zones in 33 CFR Part 165.939 enforced from July 2, 2010 at 9:30 p.m. through July 25, 2010 at 10 p.m.

FOR FURTHER INFORMATION CONTACT: If you have questions on this notice, call or e-mail MST2 Jessica Seguin, Marine Events Coordinator, Coast Guard Sector Buffalo, 1 Fuhrmann Blvd., Buffalo, NY 14203; Coast Guard telephone 716-843-9353, e-mail Jessica.L.Seguin@USCG.Mil.

SUPPLEMENTARY INFORMATION:

The Coast Guard will enforce the following safety zones listed in 33 CFR 165.939:

1. Boldt Castle 4th of July Fireworks on the St. Lawrence River, Heart Island, NY in 33 CFR 165.939(a)(1) on July 4, 2010 from 9 p.m. to 10 p.m.

2. French Festival Fireworks on the St. Lawrence River, Cape Vincent, NY in 33 CFR 165.939(a)(3) on July 10, 2010 from 9:30 p.m. to 10:30 p.m.

3. Brewerton Fireworks on Oneida River near Lake Ontario, Brewerton, NY in 33 CFR 165.939(a)(4) on July 3, 2010 from 9:30 p.m. to 10 p.m.

4. Seneca River Days on the Seneca River, Baldwinsville, NY in 33 CFR 165.939(a)(7) on July 9, 2010 from 9 p.m. to 10 p.m.

5. Oswego Harborfest on Lake Ontario, Oswego, NY in 33 CFR 165.939(a)(8) on July 24, 2010 from 9:30 p.m. to 10 p.m.

6. Village Fireworks on Sodus Bay, Sodus Point, NY in 33 CFR 165.939(a)(9) on July 3, 2010 from 10 p.m. to 10:30 p.m.

7. City of Syracuse Fireworks Celebration on Onondaga Lake, Syracuse, NY in 33 CFR 165.939(a)(10) on July 2, 2010 from 9:30 p.m. to 10:30 p.m.

8. Tom Graves Memorial on Port Bay, Wolcott, NY in 33 CFR 165.939(a)(11) on July 3, 2010 from 9:30 p.m. to 10 p.m.

9. North Tonawanda Fireworks Display on the East Niagara River, North Tonawanda, NY in 33 CFR 165.939(a)(13) on July 4, 2010 from 9 p.m. to 10 p.m.

10. Tonawanda's Canal Fest Fireworks, on the East Niagara River, Tonawanda, NY in 33 CFR 165.393(a)(14) on July 25, 2010 from 9:30 p.m. to 10 p.m.

11. Fairport Harbor Mardi Gras Fireworks on Lake Erie, Fairport Harbor Beach, OH in 33 CFR 165.939(a)(17) on July 5, 2010 from 10 p.m. to 10:30 p.m.

12. Mentor Harbor Yacht Club Fireworks Celebration on Lake Erie, Mentor Harbor, OH in 33 CFR 165.939(a)(19) on July 3, 2010 from 10 p.m. to 10:30 p.m.

13. City of Cleveland 4th of July Fireworks in Cleveland Harbor and Lake Erie, Cleveland, OH in 33 CFR 165.939(a)(21) on July 4, 2010 from 10 p.m. to 10:20 p.m.

14. Lorain 4th of July Celebration in Lorain Harbor, Lorain, OH in 33 CFR 165.939(a)(25) on July 4, 2010 from 10 p.m. to 11 p.m.

These regulations can be found in 73 Fed. Reg. 28704 (May 19, 2008).

Under the provisions of 33 CFR 165.23, entry into, transiting, or anchoring within these safety zones is prohibited unless authorized by the Captain of the Port Buffalo or his designated representative. Vessels that wish to transit through the safety zones may request permission from the Captain of the Port Buffalo. Requests must be made in advance and approved by the Captain of Port before transits will be authorized. Approvals will be granted on a case-by-case basis. The Captain of the Port may be contacted via U.S. Coast Guard Sector Buffalo on channel 16, VHF-FM. The Coast Guard will give notice to the public via a Broadcast to Mariners that the regulation is in effect.

This notice is issued under authority of 33 CFR 165.939 and 5 U.S.C. 552 (a). If the District Commander, Captain of the Port, or other official authorized to do so, determines that the regulated area need not be enforced for the full duration stated in this notice, he or she may use a Broadcast Notice to Mariners to grant general permission to enter the safety zone.

Dated: June 28, 2010.
R.S. Burchell,
Captain, U. S. Coast Guard, Captain of the Port Buffalo.

[FR Doc. 2010-17168 Filed 7-13-10; 8:45 am]

BILLING CODE 9110-04-P